DEPARTMENT OF HEALTH AND HUMAN SERVICES

Administration for Children and Families

Proposed Information Collection Activity; Comment Request

Title: Administration for Native Americans Annual Data Report.

OMB No. 0970-0475: Renewal.

Description: The Administration for Native Americans is seeking renewal of the Annual Data Report (ADR). The ADR is an annual report to be completed at the end of every budget period of an ANA discretionary grant. The purpose of this information collection is to annually collect grantee data on outcome indicators, youth and elder engagement, partnerships, community participation, benefits and lessons learned. At the end of the project period, ANA will also collect data on beneficiaries, the overall achievement of the project goal, and project sustainability.

This information collection will be housed in the On-Line Data Collection (OLDC) with in GrantSolutions.gov.

Respondents: Tribal Government, Native non-profit organizations, Tribal Colleges & Universities receiving ANA discretionary funding.

Annual Burden Estimates
Instrument | Number of respondents | Number of responses per respondent | Average burden hours per response | Total burden hours
ADR | 275 | 1 | 1 | 275

Estimated Total Annual Burden Hours: 275.

In compliance with the requirements of the Paperwork Reduction Act of 1995 (Pub. L. 104-13, 44 U.S.C. Chap 35), the Administration for Children and Families is soliciting public comment on the specific aspects of the information collection described above. Copies of the proposed collection of information can be obtained and comments may be forwarded by writing to the Administration for Children and Families, Office of Planning, Research and Evaluation, 330 C Street SW, Washington, DC 20201, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert A. Sargis,
Reports Clearance Officer.

[FR Doc. 2018-11796 Filed 5-31-18; 8:45 am]

BILLING CODE 4184-34-P